DEPARTMENT OF COMMERCE

International Trade Administration

[A-520-803]

Polyethylene Terephthalate Film, Sheet, and Strip From the United Arab Emirates: Final Results of Antidumping Duty Administrative Review; 2010-2011

AGENCY: Import Administration, International Trade Administration, Department of Commerce.

SUMMARY: On December 7, 2012, the Department of Commerce (the Department) published the preliminary results of administrative review of the antidumping duty order on polyethylene terephthalate film (PET Film) from the United Arab Emirates.¹ This review covers two producers/exporters of subject merchandise: JBF RAK LLC (JBF) and FLEX Middle East FZE (FLEX). Based on our analysis of the comments received, we have made changes to the preliminary results which are discussed below. The final weighted-average dumping margins are listed below in the section titled “Final Results of Review.”

¹ See Polyethylene Terephthalate Film, Sheet, and Strip from the United Arab Emirates: Preliminary Results of Antidumping Duty Administrative Review; 2010-2011, 77 FR 73010 (December 7, 2012), and accompanying Preliminary Decision Memorandum.

DATES: Effective Date: May 21, 2013.

FOR FURTHER INFORMATION CONTACT: Andrew Huston, or Gene Calvert, AD/CVD Operations, Office 6, Import Administration, International Trade Administration, U.S. Department of Commerce, 14th Street and Constitution Avenue NW., Washington, DC 20230; telephone: (202) 482-4261, or (202) 428-3586, respectively.

SUPPLEMENTARY INFORMATION:

Background

Since the preliminary results, the following events have taken place. The Department received timely case briefs from Mitsubishi Polyester Film, Inc., SKC, Inc., and Toray Plastics (America), Inc. (collectively, Petitioners) and JBF on January 14, 2013. Petitioners filed a timely rebuttal brief with the Department on January 22, 2013.

On March 8, 2013, the Department released a post-preliminary analysis memorandum of JBF which addressed Petitioners' targeted dumping allegation.² At that time, we invited interested parties to comment on the Post-Preliminary Analysis.³ JBF submitted comments on the Post-Preliminary Analysis on March 18, 2013, and Petitioners submitted rebuttal comments on March 25, 2013.

² See Memorandum to Paul Piquado, “2010-2011 Administrative Review of the Antidumping Duty Order on Polyethylene Terephthalate Film, Sheet, and Strip from the United Arab Emirates: Post-Preliminary Analysis and Calculation Memorandum of JBF RAK LLC” (Post-Preliminary Analysis), dated March 8, 2013.

³ See id. at 4.

Period of Review

The period of review is November 1, 2010, through October 31, 2011.

Scope of the Order

The products covered by the order are all gauges of raw, pre-treated, or primed polyethylene terephthalate film (PET Film), whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET Film is classifiable under subheading 3920.62.00.90 of the Harmonized Tariff Schedule of the United States (HTSUS). While HTSUS subheadings are provided for convenience and customs purposes, our written description of the scope of the order is dispositive.

Analysis of Comments Received

All issues raised by parties in the case and rebuttal briefs, as well as in the comments and rebuttal comments related to the Post-Preliminary Analysis, are addressed in the Memorandum to Paul Piquado, Assistant Secretary for Import Administration, from Christian Marsh, Deputy Assistant Secretary for Antidumping and Countervailing Duty Operations, “Antidumping Duty Administrative Review of Polyethylene Terephthalate Film, Sheet, and Strip from the United Arab Emirates: Issues and Decision Memorandum for the Final Results” (Decision Memorandum), dated concurrently with, and hereby adopted by, this notice. A list of the issues addressed in the Decision Memorandum is appended to this notice. The Decision Memorandum is a public document and is available electronically via Import Administration's Antidumping and Countervailing Duty Centralized Electronic Services System (IA ACCESS). IA ACCESS is available to registered users at http://iaacess.trade.gov and is available in the Central Records Unit of the main Commerce Building, Room 7046. In addition, a complete version of the Decision Memorandum is also accessible on the internet at http://ia.ita.doc.gov/frn/index.html. The signed Decision Memorandum and the electronic versions of the Decision Memorandum are identical in content.

Changes Since the Preliminary Results

Based on our analysis of the comments received, we have made adjustments to our margin calculations for JBF and FLEX. Specifically, in response to Petitioners' targeted dumping allegation and consistent with the Post-Preliminary Analysis, we have adopted the alternative average-to-transaction methodology for JBF.⁴ Moreover, in response to comments by Petitioners, we have made changes to the SAS programming to correct certain clerical errors in FLEX's margin calculation.

⁴ See id. at 2 and 3.

Final Results of Review

As a result of this review, we determine that the following weighted-average dumping margins exist for the period November 1, 2010, through October 31, 2011:

Manufacturer/exporter | Weighted average margin
JBF RAK LLC | 9.80 percent ad valorem.
FLEX Middle East FZE | 0.00 percent ad valorem (i.e., de minimis.)

Disclosure

We will disclose to interested parties the calculations performed in connection with these final results within five days of the publication of this notice, consistent with 19 CFR 351.224(b).

Assessment Rates

The Department shall determine, and U.S. Customs and Border Protection (CBP) shall assess, antidumping duties on all appropriate entries of subject merchandise in accordance with the final results of this review.⁵ The Department intends to issue appropriate assessment instructions directly to CBP 15 days after the date of publication of these final results of review.

⁵ The Department applied the assessment rate calculation method adopted in Antidumping Proceedings: Calculation of the Weighted-Average Dumping Margin and Assessment Rate in Certain Antidumping Proceedings: Final Modification, 77 FR 8101 (February 14, 2012).

For assessment purposes, where the respondent reported the entered value for its sales, we calculated importer-specific (or customer-specific) ad valorem assessment rates based on the ratio of the total amount of the dumping duties calculated for the examined sales to the total entered value of those same sales. See 19 CFR 351.212(b)(1). However, where the respondent did not report the entered value for its sales, we have calculated importer-specific (or customer-specific) per-unit assessment rates by aggregating the total amount of antidumping duties calculated for the examined sales and dividing this amount by the total quantity of those sales. We will instruct CBP to assess antidumping duties on all appropriate entries covered by this review if any importer-specific assessment rate calculated in the final results of this review is above de minimis (i.e., at or above 0.50 percent). Pursuant to 19 CFR 351.106(c)(2), we will instruct CBP to liquidate, without regard to antidumping duties, any entries for which the assessment rate is de minimis.

The Department clarified its “automatic assessment” regulation on May 6, 2003.⁶ This clarification applies to entries of subject merchandise during the period of review produced by companies under review in these final results for which the reviewed companies did not know their merchandise was destined for the United States. In such instances, we will instruct CBP to liquidate non-reviewed entries at the all-others rate of 4.05 percent from the investigation if there is no rate for the intermediate company(ies) involved in the transaction.⁷

⁶ See Antidumping and Countervailing Duty Proceedings: Assessment of Antidumping Duties, 68 FR 23954 (May 6, 2003).

⁷ See id.; see also Polyethylene Terephthalate Film, Sheet, and Strip From Brazil, the People's Republic of China and the United Arab Emirates: Antidumping Duty Orders and Amended Final Determination of Sales at Less Than Fair Value for the United Arab Emirates, 73 FR 66595, 66596 (November 10, 2008).

Cash Deposit Requirements

The following deposit requirements will be effective upon publication of the final results of this administrative review for all shipments of subject merchandise entered, or withdrawn from warehouse, for consumption on or after the publication date of these final results, as provided by section 751(a)(2)(C) of the Tariff Act of 1930, as amended (the Act): (1) For the companies covered by this review, the cash deposit rate will be the rate listed above in the section “Final Results of Review”; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 4.05 percent, the all-others rate established in the less than fair value investigation.⁸ These cash deposit requirements, when imposed, shall remain in effect until further notice.

⁸ See id.

Notification Regarding Administrative Protective Order

This notice is the only reminder to parties subject to the administrative protective order (APO) of their responsibility concerning the return or destruction of proprietary information disclosed under the APO in accordance with 19 CFR 351.305(a)(3). Timely written notification of the return or destruction of APO materials, or conversion to judicial protective order, is hereby requested. Failure to comply with the regulations and the terms of an APO is a sanctionable violation.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and in the subsequent assessment of double antidumping duties.

We are issuing and publishing these final results and this notice in accordance with sections 751(a)(1) and 777(i)(1) of the Act.

Dated: May 13, 2013.
Paul Piquado,
Assistant Secretary for Import Administration.

Appendix

Issues in the Decision Memorandum

Comment 1: Targeted Dumping

Comment 2: Grade A and Grade B Sales

Comment 3: 15-Day Liquidation Policy

Comment 4: Correction of Certain Errors in FLEX's SAS Program

[FR Doc. 2013-12086 Filed 5-20-13; 8:45 am]

BILLING CODE 3510-DS-P